DEPARTMENT OF DEFENSE

Office of the Secretary

[Docket ID: DoD-2015-OS-0026]

Proposed Collection; Comment Request

AGENCY: Defense Security Cooperation Agency, DoD.

ACTION: Notice.

SUMMARY: In compliance with the Paperwork Reduction Act of 1995, the Defense Security Cooperation Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 26, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within the same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to: The Defense Security Cooperation Agency (DSCA) ATTN: David Frasher, 220 12th Street, South, Suite 203, Arlington, VA 22202-5408 or call (703) 601-4459 or Defense Institute of Security Assistance Management (DISAM), ATTN: Ernest McCallister, 2475 K Street, Wright-Patterson AFB, OH 45433-7803, or call Director of International Studies, at 937-713-3305.

SUPPLEMENTARY INFORMATION: Title; Associated Form; and OMB Number: Security Cooperation Training Management System, SC-TMS TRAINING FORM, OMB Control Number 0704-XXXX.

Needs and Uses: Security Cooperation Training Management System (SC-TMS): Is a web based database used to exchange Security Cooperation training information between overseas Security Cooperation Offices, Geographical Combatant Commands, Military Departments, Defense Security Cooperation Agency, DoD Schoolhouses, Regional Centers, and International Host Nation Organizations. The Security Cooperation Training Management System (SC-TMS) is a tool used by the Security Cooperation community to manage International Military Student training data. Reports of annual training of Foreign nationals to Congress as required by 22 U.S.C. 2394 (Foreign Assistance Act (FAA)) and 22 U.S.C. 2770A (Arms Export Control Act (AECA)).

Affected Public: Individuals and Households.

Annual Burden Hours: 10,995 hours.

Number of Respondents: 43,980.

Responses per Respondent: 1.

Annual Responses: 43,980.

Average Burden per Response: 15 min.

Frequency: On occasion.

Respondents are foreign military and foreign civilian government employees in Department of Defense (DoD) training in support of U.S. foreign policy as prescribed by the President of the United States, Congress and Departments of State and Defense. Security Cooperation and Assistance programs as authorized by the Foreign Assistance Act (FAA), and the Arms Export Control Act (AECA) require collection of data to manage DoD training of international military students. If the information on the student form is not collected, DoD schoolhouses will not able to process students for attendance in resident or at mobile training locations in compliance with DepSecDef directive and federal law requiring the reporting of training of foreign nationals (ref. AECA).

Dated: March 23, 2015.
Aaron Siegel,
Alternate OSD Federal Register Liaison Officer, Department of Defense.

[FR Doc. 2015-07014 Filed 3-26-15; 8:45 am]

BILLING CODE 5001-06-P